DEPARTMENT OF STATE

[Public Notice: 7190]

60-Day Notice of Proposed Information Collection: Bureau of Educational and Cultural Affairs, Office of Policy and Evaluation, Evaluation Division Survey Question Bank, OMB Control Number 1405-0158

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Bureau of Educational and Cultural Affairs, Office of Policy and Evaluation, Evaluation Division Survey Question Bank.

• OMB Control Number: 1405-0158.

• Type of Request: Revision of a Currently Approved Collection.

• Originating Office: Bureau of Educational and Cultural Affairs, Office of Policy and Evaluation, Evaluation Division (ECA/P/V).

• Form Number: New surveys with a `SV-yyyy-####' tag will be created on an as needed basis.

• Respondents: Active exchange program participants or alumni of exchange programs conducted by ECA that are included in either performance measurement or evaluations studies.

• Estimated Number of Respondents: 6,000 annually.

• Estimated Number of Responses: 6,000 annually.

• Average Hours Per Response: 25 minutes.

• Total Estimated Burden: 2,500 hours annually.

• Frequency: On occasion.

• Obligation to Respond: Voluntary.

DATES: The Department will accept comments from the public up to 60 days from September 30, 2010.

ADDRESSES: You may submit comments by any of the following methods:

• E-mail: SilverRS@state.gov or HaleMJ2@state.gov.

• Mail (paper, disk, or CD-ROM submissions): ECA/P/V, SA-5, 5th Floor, Department of State, Washington, DC 20522-0505.

• Fax: 202-632-6320.

• Hand Delivery or Courier: ECA/P/V, SA-5, 5th Floor, Department of State, 2200 C Street, NW., Washington, DC 20037.

You must include the DS form number (if applicable), information collection title, and OMB control number in any correspondence.

FOR FURTHER INFORMATION CONTACT: Direct requests for additional information regarding the collection listed in this notice, including requests for copies of the proposed information collection and supporting documents, to Michelle Hale, ECA/P/V, SA-5, C2 Floor, Department of State, Washington, DC 20522-0582, who may be reached on 202-632-6312 or at HaleMJ2@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

To meet OMB and Congressional reporting requirements, this request for a revised information collection clearance will allow ECA/P/V to continue to conduct surveys of exchange participants from various ECA exchange programs. Collecting this data will help ECA/P/V assess and measure programs' effectiveness and impact, as well as provide valuable feedback on the program from the participants' perspective. ECA/P/V will most frequently conduct data collections efforts via electronic surveys, but when necessary may also utilize paper surveys. The majority of respondents will include either active exchange program participants or alumni of exchange programs conducted by ECA that are included in either performance measurement or evaluations studies.

Methodology

Performance measurement and evaluation data will be collected primarily through electronic surveys, but may also be done via paper surveys when access to computers is not possible.

Additional Information

This revised clearance request is based on the previous ECA/P/V information collection which submitted a question bank of possible questions ECA/P/V might use in surveys. This is necessary since large portions of these surveys will share the same questions, and this collection will avoid duplicating work load. For this submission, the question bank has been further refined and edited based on anticipated collection of evaluation or performance measurement data during the next clearance period.

Dated: September 2, 2010.
Rick Ruth,
Acting Chief of Staff, Bureau of Educational and Cultural Affairs, Department of State.

[FR Doc. 2010-24591 Filed 9-29-10; 8:45 am]

BILLING CODE 4710-05-P